DEPARTMENT OF HEALTH AND HUMAN SERVICES

Program Support Center

Agency Information Collection Activities: Proposed Collections; Comment Request

The Department of Health and Human Services, Program Support Center (PSC) will periodically publish summaries of proposed information collection projects and solicit public comments in compliance with the requirements of section 3506(c)(2)(A) of the Paperwork Reduction Act of 1995. To request more information on the project or to obtain a copy of the information collection plans and instruments, call the PSC Reports Clearance Officer on (301) 443-1494.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including the use of automated collection techniques or other forms of information technology.

1. Proposed Project: Application to the Board for Correction of Public Health Service (PHS) Commissioned Corps Records (PSC-54)—(OMB 0937-0095)—Extension.

An application is submitted by commissioned officers of the PHS Commissioned Corps, former officers, their spouses or heirs who appeal to the Board for Correction to request removal of an alleged error or injustice in an officer's record. The information submitted is used by the Board for Correction to determine if an error or injustice has occurred and to rectify such error or injustice. An appeal cannot be considered without the information furnished on this form. Respondents: Individuals or households and Federal employees. Total Number of Respondents: ten per calendar year. Number of Responses per Respondent: one response per request. Average Burden per Response: four hours. Estimated Annual Burden: 40 hours.

Send comments to Irene S. West, PSC Reports Clearance Officer, Room 17A39, Parklawn Building, 5600 Fishers Lane, Rockville, MD 20857. Written comments should be received within 60 days of this notice.

Dated: March 7, 2002.
Curtis L. Coy,
Director, Program Support Center.

[FR Doc. 02-6420 Filed 3-15-02; 8:45 am]

BILLING CODE 4168-17-M